DEPARTMENT OF COMMERCE

National Oceanic and Atmospheric Administration

[I.D. 011806D]

Western Pacific Fishery Management Council; Public Meeting

AGENCY: National Marine Fisheries Service (NMFS), National Oceanic and Atmospheric Administration (NOAA), Commerce

ACTION: Notice of public meeting.

SUMMARY: The Western Pacific Fishery Management Council (Council) will hold a meeting of the Hawaii-based members of the Council Bottomfish Plan Team (BPT) to consider alternatives to end bottomfish overfishing in the Main Hawaiian Islands.

DATES: The meeting of the BPT will be held on February 8, 2006, from 9 a.m. to 4 p.m. For specific times, and the agenda, see SUPPLEMENTARY INFORMATION.

ADDRESSES: The meeting of the BPT will be held at the Western Pacific Fishery Management Council conference room, 1164 Bishop Street, Suite 1400, Hololulu, HI.

FOR FURTHER INFORMATION CONTACT: Kitty M. Simonds, Executive Director; telephone: (808)522-8220.

SUPPLEMENTARY INFORMATION: The BPT will meet on February 8, 2006 to discuss the following agenda items.

February 8, 2006, 9 a.m. to 4 p.m.

1. Introductions.

2. Approval of draft agenda and assignment of rapporteurs.

3. Review of last plan team meeting and actions from the 129th Council Meeting.

4. Review the alternatives developed to address overfishing of bottomfish in the Main Hawaiian Islands.

5. Review Hawaii Division of Aquatic Resources proposed redefinition of bottomfish Restricted Fishing Areas in the Main Hawaiian Islands.

6. Review the Pacific Island Fisheries Science Center(PIFSC) report on Hawaii Bottomfish.

7. Status of PIFSC Bottomfish stock assessment.

8. Other business.

The order in which the agenda items are addressed may change. Public comment periods will be provided throughout the agenda.

The Agenda Background Information

On May 27, 2005, the Secretary of Commerce notified the Council of this overfishing determination and gave the Council until May 2006 to develop a plan to reduce fishing mortality for bottomfish in the MHI. Scientists at NMFS' Pacific Islands Fishery Science Center (PIFSC) report that the target level of effort reduction, based on 2003 fishery statistics, is 15 percent.

Although non-emergency issues not contained in this agenda may come before the Council for discussion, those issues may not be the subject of formal Council action during this meeting. Council action will be restricted to those issues specifically listed in this document and any issue arising after publication of this document that requires emergency action under section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 18, 2006.
Emily Menashes,
Acting Director, Office of Sustainable Fisheries, National Marine Fisheries Service.

[FR Doc. E6-729 Filed 1-20-06; 8:45 am]

BILLING CODE 3510-22-S